DEPARTMENT OF ENERGY

Federal Energy Regulatory Commission

Combined Notice of Filings #1

April 11, 2007.

Take notice that the Commission received the following electric corporate filings:

Docket Numbers: EC07-75-000.

Applicants: Walton County Power, L.L.C.; Washington County Power, LLC; Effingham County Power, LLC; MPC Generating, LLC; Progress Genco Ventures, LLC; Progress Ventures, Inc.; Mackinaw Power, L.L.C.

Description: Progress Ventures, Inc. et al. submit an application for authorization under section 203 of the FPA and request for waivers.

Filed Date: 04/04/2007.

Accession Number: 20070409-0198.

Comment Date: 5 p.m. Eastern Time on Wednesday, April 25, 2007.

Docket Numbers: EC07-76-000.

Applicants: J-Power USA Investment Co., Ltd.; John Hancock Life Insurance Company.

Description: J-Power USA Investment Co., Ltd. and John Hancock Life Insurance Co. submit a joint application for authorization to transfer ownership interest in exempt wholesale generators etc.

Filed Date: 04/06/2007.

Accession Number: 20070411-0074.

Comment Date: 5 p.m. Eastern Time on Friday, April 27, 2007.

Take notice that the Commission received the following electric rate filings.

Docket Numbers: ER04-1232-007.

Applicants: Southwest Power Pool, Inc.

Description: Southwest Power Pool, Inc. submits its Substitute Sixth Revised Sheet 161A to FERC Electric Tariff, Fourth Revised Volume 1.

Filed Date: 04/05/2007.

Accession Number: 20070410-0170.

Comment Date: 5 p.m. Eastern Time on Thursday, April 26, 2007.

Docket Numbers: ER06-880-006; ER07-632-001.

Applicants: PJM Interconnection, L.L.C.

Description: Neptune Regional Transmission System, LLC and PJM Transmission Owners Administrative Committee submit revisions to Schedule 14 to their Open Access Transmission Tariff filed on 3/16/07.

Filed Date: 04/04/2007.

Accession Number: 20070411-0143.

Comment Date: 5 p.m. Eastern Time on Wednesday, April 25, 2007.

Docket Numbers: ER06-613-003.

Applicants: ISO New England Inc.; New England Power Pool.

Description: ISO New England, Inc. submits a report on the status of the implementation of certain reserve market changes that were included as part of Phase II of the Ancillary Services Market project.

Filed Date: 04/02/2007.

Accession Number: 20070411-0142.

Comment Date: 5 p.m. Eastern Time on Monday, April 23, 2007.

Docket Numbers: ER07-597-001.

Applicants: Montana Generation, LLC.

Description: Montana Generation, LLC submits an amendment to its tariff, Substitute Sheet 1 et al. to FERC Electric Tariff, Original Volume 1 to incorporate the requested changes pursuant to the Commission's 2/16/06 order.

Filed Date: 04/05/2007.

Accession Number: 20070410-0169.

Comment Date: 5 p.m. Eastern Time on Thursday, April 26, 2007.

Docket Numbers: ER07-710-000.

Applicants: Peoples Energy Services Corporation.

Description: Integrys Energy Group Inc. on behalf of Peoples Energy Services Corp submits a revised market-based rate tariff etc.

Filed Date: 03/23/2007.

Accession Number: 20070409-0191.

Comment Date: 5 p.m. Eastern Time on Friday, April 13, 2007.

Docket Numbers: ER07-717-000.

Applicants: Entergy Services, Inc.

Description: Entergy Services, Inc on behalf of the Entergy Operating Companies submits a notice of adoption of North American Electric Reliability Council's revised Transmission Loading Relief Procedures compliance filing.

Filed Date: 04/05/2007.

Accession Number: 20070410-0172.

Comment Date: 5 p.m. Eastern Time on Thursday, April 26, 2007.

Docket Numbers: ER07-718-000.

Applicants: Pepperell Realty LLC.

Description: Pepperell Realty LLC submits a notice of cancellation of FERC Electric Tariff, Original Volume 1.

Filed Date: 04/05/2007.

Accession Number: 20070410-0171.

Comment Date: 5 p.m. Eastern Time on Thursday, April 26, 2007.

Docket Numbers: ER07-719-000.

Applicants: Xcel Energy Operating Companies.

Description: Xcel Energy Operating Companies submits Third Revised Sheet 27 et al. to FERC Gas Tariff, First Revised Volume 1 to its Joint Open Access Transmission Tariff, First Revised Volume 1 pur to Part 35 of FERC's Regulations.

Filed Date: 04/05/2007.

Accession Number: 20070410-0173.

Comment Date: 5 p.m. Eastern Time on Thursday, April 26, 2007.

Docket Numbers: ER07-722-000.

Applicants: South Carolina Electric & Gas Company.

Description: South Carolina Electric & Gas Co submits Original Tariff Sheet 374 et al. adopting the North American Electric Reliability Council Transmission Loading Relief Procedures to comply with FERC's Order 676.

Filed Date: 04/05/2007.

Accession Number: 20070411-0047.

Comment Date: 5 p.m. Eastern Time on Thursday, April 26, 2007.

Docket Numbers: ER07-723-000.

Applicants: Old Dominion Electric Cooperative, Inc.

Description: Old Dominion Electric Cooperative submits rate schedule for providing cost-based Reactive Power and Voltage Control from Generation Sources Service etc.

Filed Date: 04/06/2007.

Accession Number: 20070411-0145.

Comment Date: 5 p.m. Eastern Time on Friday, April 27, 2007.

Docket Numbers: ER07-724-000.

Applicants: Old Dominion Electric Cooperative, Inc.

Description: Old Dominion Electric Cooperative submits amended rate schedule for providing cost-based Reactive Power and Voltage Control from Generation Sources Service.

Filed Date: 04/06/2007.

Accession Number: 20070411-0061.

Comment Date: 5 p.m. Eastern Time on Friday, April 27, 2007.

Docket Numbers: ER07-725-000.

Applicants: Old Dominion Electric Cooperative, Inc.

Description: Old Dominion Electric Cooperative submits an amended rate schedule for providing cost-based Reactive Power and Voltage Control from Generation Sources Service.

Filed Date: 04/06/2007.

Accession Number: 20070411-0062.

Comment Date: 5 p.m. Eastern Time on Friday, April 27, 2007.

Docket Numbers: ER07-726-000.

Applicants: New York Independent System Operator, Inc.

Description: New York Independent System Operator, Inc submits revisions to its Open Access Transmission Tariff to incorporate the latest approved version re Transmission Loading Relief procedure.

Filed Date: 04/05/2007.

Accession Number: 20070411-0144.

Comment Date: 5 p.m. Eastern Time on Thursday, April 26, 2007.

Docket Numbers: ER07-727-000.

Applicants: Entergy Services, Inc.

Description: Entergy Operating Companies submits an amendment to the Entergy System Agreement.

Filed Date: 04/06/2007.

Accession Number: 20070411-0066.

Comment Date: 5 p.m. Eastern Time on Friday, April 27, 2007.

Docket Numbers: ER07-729-000.

Applicants: Old Dominion Electric Cooperative, Inc.

Description: Old Dominion Electric Cooperative submits a rate schedule for providing cost-based Reactive Power and Voltage Control from Generation Sources Service etc.

Filed Date: 04/06/2007.

Accession Number: 20070411-0064.

Comment Date: 5 p.m. Eastern Time on Friday, April 27, 2007.

Docket Numbers: ER07-730-000.

Applicants: Public Service Electric and Gas Company; PSEG Energy Resources & Trade LLC.

Description: Public Service Electric & Gas Company et al. submit request for waivers of affiliate standards and authorizations for sales etc.

Filed Date: 04/06/2007.

Accession Number: 20070411-0063.

Comment Date: 5 p.m. Eastern Time on Friday, April 27, 2007.

Docket Numbers: ER07-731-000.

Applicants: Florida Power & Light Company.

Description: Florida Power & Light Co submits a new Rate Schedule 305, Agreement for Generator Balancing Service with DeSoto County Generating Co, LLC.

Filed Date: 04/09/2007.

Accession Number: 20070411-0067.

Comment Date: 5 p.m. Eastern Time on Monday, April 30, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will e-File a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-7315 Filed 4-17-07; 8:45 am]

BILLING CODE 6717-01-P